DEPARTMENT OF THE INTERIOR

National Park Service

[NPS-NCR-GWMP-1202-9483: 3310-0250-471]

Notice of Intent To Prepare an Environmental Impact Statement on a Proposed Boat-House Facility for Non-Motorized Boats, George Washington Memorial Parkway

AGENCY: National Park Service, Interior.

ACTION: Notice of intent.

SUMMARY: Pursuant to § 102(2)(c) of the National Environmental Policy Act of 1969, 42 U.S.C. 4332(2)(C), the National Park Service (NPS) is preparing an Environmental Impact Statement (EIS) to assess the impacts of constructing a boathouse facility and floating docks for non-motorized boats at possible locations along the Virginia shoreline of the Potomac River in the vicinity of Arlington County. This announcement updates the Notice of Intent (NOI) on the same project published in the Federal Register on May 21, 2004.

DATES: The NPS will conduct scoping during the coming months which will include a public scoping meeting. The NPS will announce details about the scoping period and the public meeting on the NPS's Planning, Environment and Public Comment (PEPC) Web site: http://www.parkplanning.nps.gov/gwmp, as well as through announcements in the local media. NPS is seeking public comment about the proposal and comments will be accepted through August 27, 2012.

ADDRESSES: The NPS will conduct a public scoping meeting at a public site in Arlington County. When the public scoping meeting has been scheduled, its location, date, and time will be announced through local media and published on the PEPC Web site: http://www.parkplanning.nps.gov/gwmp at least 15 days in advance of the meeting.

FOR FURTHER INFORMATION CONTACT: Superintendent, George Washington Memorial Parkway, Turkey Run Park, McLean, Virginia 22101, at (703) 289-2500.

SUPPLEMENTARY INFORMATION: The NPS is preparing an EIS to identify a preferred site for construction of an environmentally sustainable facility for non-motorized boats on the Virginia shoreline of the Potomac River.

Scoping for the EIS will consider four possible site locations within George Washington Memorial Parkway. Two proposed sites are downstream of the Key Bridge, one proposed site is near Gravelly Point and the 14th Street Bridge, and one proposed site is on Daingerfield Island. The boathouse facility and its amenities would enhance public waterfront access in the vicinity of Arlington County for non-motorized recreational activities.

This project was initiated when, at the direction of Congress, the NPS prepared a site analysis (feasibility study) for a boathouse facility in 2002. The purpose of the study was to eliminate any sites that were not feasible due to engineering or financial constraints and to use that information for the preparation of an EIS. On May 21, 2004, an NOI to prepare that EIS was published in the Federal Register. In 2004, the NPS held a public scoping meeting and preliminary surveys which were completed.

With the participation of Arlington County as a cooperating agency, internal scoping was reinitiated in 2011, and the NPS has determined that an EIS remains the most appropriate level of environmental documentation for the proposed project. NPS is issuing this NOI so that the public has a clear understanding of the agency's intention to complete preparation of this EIS.

Public Involvement: Public involvement will be a key component in preparation of the EIS. Interested individuals, organizations, and agencies are encouraged to provide written comments or suggestions to assist the NPS in determining the scope of issues to be addressed in the EIS, to identify significant issues related to the project, and to identify other reasonable alternatives.

The NPS will conduct a public scoping meeting at a public site in Arlington County. When the public scoping meeting has been scheduled, its location, date and time will be announced through local media and published on the NPS's PEPC Web site: http://www.parkplanning.nps.gov/gwmp no later than 15 days in advance of the date of the meeting.

If you wish to submit issues or provide input on this initial phase of developing the EIS, you may submit comments by [INSERT DATE 60 DAYS FROM THE DATE OF THIS NOTICE] through the PEPC Web site at http://www.parkplanning.nps.gov/gwmp, by hand-delivery or mail to: Superintendent, George Washington Memorial Parkway, Turkey Run Park, McLean, Virginia 22101, or by providing comments to NPS staff at the scoping meeting.

We will make all submissions from organizations or business, and from individuals identifying themselves as representatives or officials of organizations or businesses, available for public inspection in their entirety. Before including your address, phone number, email address, or other personal identifying information in your comment, be advised that your entire comment—including your personal identifying information—may be made publicly available at any time. While you can ask in your comments to withhold from public review your personal identifying information, we cannot guarantee that we will be able to do so.

Dated: March 5, 2012.
Stephen E. Whitesell,
Regional Director, National Capital Region.

[FR Doc. 2012-15581 Filed 6-25-12; 8:45 am]

BILLING CODE 4310-DL-P